FEDERAL COMMUNICATIONS COMMISSION

47 CFR Parts 11, 73, and 74

[MB Docket No. 20-401; FCC 24-121; FR ID 267137]

Program Originating FM Broadcast Booster Stations

AGENCY: Federal Communications Commission.

ACTION: Final rule.

SUMMARY: In this document, the Federal Communications Commission (Commission) adopts a Second Report and Order and Order on Reconsideration (Second R&O) on processing, licensing, and service rules that will allow voluntary, limited use of FM booster stations to originate content on a permanent basis. This action builds upon an April 2024 Commission action which permitted experimental use of program originating boosters subject to adoption of such rules. The rule changes are needed to expand the potential uses of FM booster stations, which previously could not originate programming. The intended effect is to allow radio broadcasters to provide more relevant localized programming and information to different zones within their service areas.

DATES: This final rule is effective January 13, 2025 except for the amendments in instruction 5 (47 CFR 73.3526) instruction 6 (47 CFR 73.3527), instruction 9 (74.1204), and instruction 10 (47 CFR 74.1206), which are delayed indefinitely. The Commission will announce the effective date of the amendments to 47 CFR 73.3526, 73.3527, 74.1204, and 74.1206 in the Federal Register.

FOR FURTHER INFORMATION CONTACT: Albert Shuldiner, Chief, Media Bureau, Audio Division, (202) 418-2721, Albert.Shuldiner@fcc.gov; Irene Bleiweiss, Attorney, Media Bureau, Audio Division, (202) 418-2785, Irene.Bleiweiss@fcc.gov. For additional information concerning the Paperwork Reduction Act (PRA) information collection requirements contained in this document, contact Cathy Williams at (202) 418-2918, Cathy.Williams@fcc.gov.

SUPPLEMENTARY INFORMATION: This is a summary of the Commission's Second Report and Order (Second R&O), MB Docket No. 20-401; FCC 24-121, adopted on November 21, 2024, and released on November 22, 2024. The full text of this document will be available via the FCC's website at https://docs.fcc.gov/public/attachments/FCC-24-121A1.pdf. Documents will be available electronically in ASCII, Microsoft Word, and/or Adobe Acrobat. Alternative formats are available for people with disabilities (braille, large print, electronic files, audio format), by sending an email to fcc504@fcc.gov or calling the Commission's Consumer and Governmental Affairs Bureau at (202) 418-0530 (voice), (202) 418-0432 (TTY). Prior documents that the Commission published in this proceeding include a Notice of Proposed Rulemaking at 86 FR 1909 (January 11, 2021), a Report and Order at 89 FR 26786 (April 16, 2024), and a Further Notice of Proposed Rulemaking at 89 FR 26847 (April 16, 2024).

Paperwork Reduction Act of 1995 Analysis

This Second R&O may contain new or modified information collection requirements subject to the Paperwork Reduction Act of 1995 (PRA), Public Law 104-13. All such new or modified information collections will be submitted to the Office of Management and Budget (OMB) for review under section 3507(d) of the PRA. 44 U.S.C. 3507(d). OMB, the general public, and other Federal agencies are invited to comment on any new or modified information collection requirements contained in this proceeding. In addition, we note that pursuant to the Small Business Paperwork Relief Act of 2002 (Pub. L. 107-198, 116 Stat 729 (2002) (codified at 44 U.S.C. 3506(c)(4)), the Commission previously sought specific comment on how it might further reduce the information collection burden for small business concerns with fewer than 25 employees. Appendix C of the Second R&O assesses the effects of the required collection of information on these small entities.

Congressional Review Act

The Commission has determined, and the Administrator of the Office of Information and Regulatory Affairs, Office of Management and Budget, concurs, that these rules are non-major under the Congressional Review Act, 5 U.S.C. 804(2). The Commission will send a copy of the Second R&O to Congress and the Government Accountability Office (GAO) pursuant to 5 U.S.C. 801(a)(1)(A).

Synopsis

I. Introduction

1. In the Second R&O, the Commission expands the potential uses of FM boosters, which are low power, secondary stations that operate in the FM broadcast band. As a secondary service, FM booster stations are not permitted to cause adjacent-channel interference to other primary services or previously authorized secondary stations. They must operate on the same frequency and within the same service contour as the primary station and have been limited to rebroadcasting the primary station's signal in its entirety (i.e., no transmission of original content). Historically, the sole use of FM boosters has been to improve signal strength of primary FM stations in areas where reception is poor due to terrain or distance from the transmitter. In April 2024, the Commission adopted rules sufficient to authorize program originating boosters only on an experimental basis. The additional rules in the Second R&O will allow FM and LPFM broadcasters to employ FM booster stations to originate programming for up to three minutes per hour on a permanent basis.

2. GeoBroadcast Solutions, LLC (GBS), the proponent of the rule changes, has developed technology designed to allow licensees of primary FM and LPFM broadcast stations to target a portion of their programming to particular zones by using FM boosters to originate different content for different parts of their service areas. GBS filed a Petition for Rulemaking (Petition) seeking to allow FM boosters to originate programming. The Petition suggested that program originating boosters can deliver significant value to broadcasters, advertisers, and listeners in distinct communities by broadcasting more relevant localized information and advancing diversity. Stations might, for example, air hyper-local news and weather reports most relevant to a particular community. Stations also might air advertisements or underwriting acknowledgements from small local businesses, thereby enhancing the stations' ability to compete for local support. GBS pointed out that many other types of media, such as online content providers, cable companies, and newspapers are able to differentiate their content geographically, but that no such option has existed for radio broadcasting. On April 2, 2020, the Consumer and Governmental Affairs Bureau issued a public notice seeking comment on the Petition. The Petition garnered significant public participation.

3. The Commission released a Notice of Proposed Rulemaking (NPRM) on December 1, 2020, FCC 20-166, to seek comment on the GBS proposal and published a Federal Register summary on January 11, 2021, 86 FR 1909. The NPRM posed questions to determine whether—and if so, how—to change FM booster station rules to permit FM boosters to transmit original geo-targeted content.

4. After the comment period closed, the Commission granted GBS' request for experimental authority to conduct additional testing of the technology and required GBS to report the results. The reports contained detailed information about the technology's operation in two radio markets, its compatibility with the Emergency Alert System (EAS), and potential impact on digital FM broadcasts. Because this information was not available to the public during the NPRM comment cycle, the Commission issued a public notice on April 18, 2022, DA 22-429, opening the record for additional comments.

5. In April 2024, the Commission issued a Report and Order (Order) identifying significant potential benefits of program originating boosters. It determined that the ability to originate content would enable broadcasters to serve specific geographic segments within their broadcast areas, could open up more affordable advertising to smaller and minority-owned businesses, and generally provide broadcasters and listeners options for more targeted and varied advertising and content. The Commission, thus, found that it would be in the public interest to allow FM and low power FM (LPFM) broadcasters to use booster-originated content on a voluntary, limited basis, subject to resolution of various technical and non-technical matters.

6. The Commission's Order identified certain safeguards and limitations that could potentially resolve certain concerns raised in the comments such as whether program originating boosters would cause harmful interference to their primary station or adjacent channel stations, be compatible with the EAS, and be used in a manner consistent with principles of diversity, equity, and inclusion. The potential safeguards included: limiting program origination to three minutes per hour (five percent of each hour); requiring notification to the Commission before a booster begins to originate programming; requiring program originating boosters to receive and broadcast all emergency alerts in the same manner as their primary station; limiting the number of boosters a station can operate; and a self-certification or monitoring of the marketplace to ensure that booster stations are not used to disadvantage particular communities or locations. The Order also concluded that the Commission could minimize interference by placing conditions on booster authorizations, relying upon proper engineering by broadcasters, and responding, on a case-by-case basis, to any interference that might arise in individual circumstances.

7. Nevertheless, because the record addressed some of these safeguards quite broadly, the Commission proposed more specific requirements and solicited more detailed public input in a concurrently released FNPRM. The FNPRM also sought comment on administrative matters not fully discussed in the record, such as processing, licensing, and service rules that the Commission would need in order to authorize program originating boosters and respond to any resulting operational issues. Thus, although the Order provided for immediate grant of authorizations to operate program originating boosters on an experimental basis, it determined that permanent authorizations would need to await establishment of more detailed requirements in response to the FNPRM.

8. Commenters responding to the FNPRM represent a broad cross-section of interested parties including advocacy groups representing the interests of full-service FM commercial, noncommercial, and LPFM broadcasters, consulting engineers, and a coalition promoting the voices of communities of color and marginalized groups in the broadcasting industry. Some express support for program originating boosters and others, while generally opposed to such use of boosters, express support for operational safeguards proposed in the FNPRM.

II. Discussion

9. In the Second R&O the Commission adopts application procedures and service rules to allow for the use of program originating boosters on a permanent basis. It establishes a process for stations to notify the Commission and other stations of the commencement of program origination on booster stations. The Commission also updates its rules to address concerns about predicted interference from proposed booster stations and adopts a cap of 25 program originating boosters that each primary station may operate. Additionally, the Commission updates its political broadcasting rules to account for political advertising on program originating boosters. It adopts a public interest certification for broadcasters operating program originating boosters. The Commission also addresses two pending petitions for reconsideration of the Order—denying the REC Networks petition for reconsideration and dismissing the Press Communications, LLC petition for reconsideration on procedural grounds.

10. Application Procedures. The Commission will, as proposed in the FNPRM, continue to process booster applications on a first come/first served basis using existing application procedures. The Commission believes that continuing the existing first come/first served application process will best enable FM broadcasters to design systems that meet their individual circumstances, to determine whether program origination on boosters meets their needs, and to apply for boosters at any time. No commenter suggested or identified a need for opening application filing windows for program originating boosters.

11. The Second R&O addresses how broadcasters that are operating program originating boosters pursuant to experimental authority will transition to permanent operation. Such broadcasters that are compliant with the rules adopted in the Second R&O may continue program origination uninterrupted by filing a notification at any time after the effective date of the rules adopted herein and before the existing experimental authority expires.

12. Notifications. The Commission adopts requirements that licensees notify the Commission and State Emergency Communications Committees (SECCs) of their intent to originate programming over boosters. The FM Booster Program Origination Notification to the Commission will put interested parties on notice of which stations are using boosters to originate content, and enable the Commission to best respond to any complaints that may arise. The notification will contain the same elements proposed in the FNPRM but rather than sending a letter as proposed, licensees will file an electronic form. The Commission believes that use of a form will make it easier for applicants to provide each required element and will be more convenient for the public by presenting information in a uniform format. Most commenters supported this notification requirement.

13. In order to protect public safety, the Second R&O also adopts a notification requirement to ensure that program originating boosters do not negatively impact the public's receipt of alerts through the EAS. The FNPRM asked whether action taken in the Order, including a requirement that boosters receive and broadcast all emergency alerts in the same manner as their primary station, was sufficient to ensure that listeners receive timely emergency alerts. The FNPRM sought comment on whether FM primary stations using program originating boosters should notify all EAS Participants monitoring that primary station to put participating stations on notice that they should monitor the primary station rather than the associated booster. The FNPRM also asked whether to require broadcasters using program originating boosters to report EAS-related problems or interference and, if so, the best means for broadcasters to provide such information.

14. Of the commenters that address EAS, all support some type of additional safeguard. For example, National Public Radio (NPR) asserts that the requirement would ensure that other stations in an EAS daisy chain know whether the stations from which they receive EAS signals are originating programming. The National Association of Broadcasters (NAB) suggests that the Commission require stations to disclose whether their boosters will simulcast or be turned off during periods when a station's main channel and program originating boosters are broadcasting the same content, because the chosen approach will bear upon the potential interference during the broadcast of EAS messages. GBS agrees that notifications are valuable but argues that existing rules are sufficient to provide such notifications.

15. The Commission finds that existing rules are not sufficient to notify the Commission or EAS participants of the use of boosters for program origination and, therefore, adopts rules to include an EAS-specific notification requirement. The Second R&O finds that SECCs are best situated to receive EAS-specific notifications because SECCs administer State EAS Plans, which set forth monitoring assignments for all EAS Participants in the covered state or territory. SECCs can, thus, assess whether the primary station providing the notification is monitored by other EAS Participants. The Second R&O also requires that stations employing program originating boosters report to the Commission's Operations Center, at FCCOPS@fcc.gov, any problems of which they become aware concerning the EAS and interference.

16. Synchronization. The Commission concluded in the Order that properly engineered program originating boosters will not cause objectionable co-channel interference to the primary station or adjacent channel interference to other stations. An aspect of proper engineering would be synchronization of the signals of the primary station with those of the program originating boosters. The Order included a general synchronization requirement but did not specify a particular method that a broadcaster would be required to use to implement such synchronization. The FNPRM asked whether the Commission should establish uniform synchronization standards or if that would be an unnecessary burden given that broadcasters already have strong economic incentives to avoid self-interference.

17. Two commenters support adoption of a specific Commission-devised synchronization standard but only one, NAB, suggests any details. The remaining commenters view synchronization as a good practice whose specifics should be left up to each licensee because the broadcasters' own on-site technical experts are in a better position to determine the most effective way to synchronize under each broadcaster's individual conditions. The Second R&O declines to adopt uniform synchronization standards for program originating boosters at this time. Rather, the Commission will allow each broadcaster to determine what synchronization practices will work best in its own circumstances.

11. Predicted Interference. The FNPRM also sought comment on whether to modify 47 CFR 74.1204(f) to include applications to construct FM booster stations among those subject to objections based on predicted interference to another station. We asserted that such a change could ensure that broadcasters do not invest in developing booster stations that will later cause actual interference that must be resolved under § 74.1203 once the booster commences broadcasts. Commenters addressing this issue generally support the proposed rule change. The Commission adopts the proposed amendment to provide a mechanism for complaints of predicted interference against FM booster applications while their construction permit applications remain pending. This is a change from the current predicted interference rule which is limited to FM translator stations.

12. Cap on Program Originating FM Boosters and Other LCRA Issues. The Second R&O amends 47 CFR 74.1232(g), as proposed in the FNPRM, to limit each FM station to 25 program originating booster stations. Placing a cap on the number of program originating FM booster stations represents a change from current Commission rules, which impose no numerical limit on full power FM stations using boosters in a traditional fill-in role. In the Order, we concluded that a limit on the number of program originating FM boosters a station can operate may be needed to ensure that our decision to authorize program originating boosters is consistent with section 5 of the Local Community Radio Act of 2010 (LCRA) (Pub. L. 111-371), which requires that the Commission make licenses available for different types of stations that may operate on the same spectrum. As noted in the FNPRM, we do not yet know the extent of demand for program originating FM booster stations, nor the impact that potentially large numbers of such stations in a market could have on spectrum availability on adjacent channels where new FM translators and LPFM stations might conceivably wish to locate.

13. No commenter suggests an alternative number. GBS agrees with our conclusion in the Order that authorization of program originating boosters is consistent with LCRA. It views a cap of 25 boosters per station as an appropriate starting point, but encourages the Commission to consider raising the limit if evidence demonstrates that this number is artificially low. REC Networks does not object to the cap but considers the number to be arbitrary.

14. The Second R&O finds that the 25-booster limit, as well as authorization of program originating boosters in general, is consistent with the LCRA. The Commission believes that 25 boosters per station is a generous amount that will allow for design of several zones of program origination within each station's service area. In response to GBS' request for flexibility in that number the Commission notes that licensees can request a waiver of any rule under existing waiver standards.

15. Public Interest Certification. The FNPRM sought comment on a “Public Interest Certification” suggestion, i.e., a reporting requirement in which licensees would self-certify that they are, consistent with the public interest, using their program originating boosters in a manner that is responsive to the needs of their service areas, especially minority communities. That suggestion arose in response to prior commenter concerns that geo-targeted programming or advertising might result in intentional or inadvertent socio-economic “redlining” or exclusion of minorities. Although, we found no evidence that program origination would cause redlining, we sought comment on whether the suggested reporting requirement might be a useful safeguard and, if so, what timing and content of the certification would be best.

16. The U.S. Black Chamber, National Newspaper Publishers Association, Roberts Radio Broadcasting (Roberts), and the Multicultural Media, Telecom and internet Council contend, in joint comments, that program originating boosters allow radio stations to reach isolated and minority communities with programming geared towards them. They jointly support adoption of a public interest certification as proposed because they believe that such a certification would provide an additional layer of oversight to ensure that program originating boosters are used appropriately and equitably. GBS supports a public interest certification and states that it recently chartered a Diversity Advisory Committee to help GBS coordinate, monitor, and facilitate activities that promote localism, diversity, equity, and inclusion. None of the commenters propose any specific language, frequency, or method for the suggested certification.

17. The Second R&O adopts a self-certification requirement which will contain the call sign of the relevant booster(s) and state that in originating programming over the booster(s) the licensee has considered the characteristics and needs of the coverage area of the booster station and has not used the booster to exclude or diminish service to other populations within that area or other areas within the service area of the booster's primary station. We conclude that this certification would pose a very minimal burden on licensees but serve as a regular reminder to use program originating boosters as an enhancement intended to target rather than to exclude.

18. FM licensees would place the certification in the online public file of their primary station concurrently with their quarterly issues programs lists for the primary station. We do not see a need for LPFM stations to make this certification. LPFM licensees would not be required to make the certification because LPFM stations have limited service areas making it unlikely that potential use of boosters to exclude listeners in certain zones would result. Moreover, filing of the certification will coincide with the quarterly filing of issues/programs lists in an online public inspection file but LPFM stations are not required to compile such lists or to maintain an online inspection file.

19. Part 74 Licensing Issues. As proposed in the FNPRM, the Commission clarifies several operational matters. The only commenter to address any of our licensing proposals was NAB, which supports the proposal to make explicit the requirement that booster stations suspend operations any time their primary stations are not broadcasting and file notices of suspended operations. NAB asks the Commission also to clarify that suspension of program origination on booster stations should take place immediately upon cessation of the primary signal. GBS states that such a clarification is not necessary because the Rules already address suspension of booster operations.

20. The Commission adopts the rule change as originally proposed in the FNPRM. The Second R&O adds a new § 74.1231(k) explicitly codifying existing requirements by requiring booster stations to suspend operations any time their primary stations are not broadcasting and to file notices of suspended operations/requests for special temporary authority to remain silent pursuant to 47 CFR 73.1740. We do not believe it is necessary to adopt NAB's suggestion of a statement that suspension of booster program origination must occur immediately upon cessation of the primary signal.

21. As proposed in the FNPRM we also reorganize and clarify 47 CFR 74.1231 by adding new paragraph (j). The provisions of paragraph (j), previously contained in a Note, clarify that grandfathered superpowered FM stations will only be able to implement booster stations within the standard (i.e., non-superpowered) maximum contour for their class of station. This should help to minimize interference risks by further isolating program originating boosters from adjacent FM broadcast stations.

22. Finally, we modify 47 CFR 74.1232 to clarify that a booster station may not broadcast programming that is not permitted by its FM primary station's authorization, as proposed in the FNPRM. This will ensure that program originating boosters are not used in a manner that is inconsistent with the primary station. For example, licensees of noncommercial FM stations may not use booster stations for commercial broadcasts.

23. Political Broadcasting and Advertising. To the extent an FM booster station originates programming that includes political (i.e., candidate and certain issue-related) programming, it will be subject to the full array of political programming requirements that are applicable to full power broadcast stations. The FNPRM invited comments on a number of political programming issues including obligations to maintain political files, provide equal opportunities, ensure reasonable access, and charge candidates lowest rates. These obligations ensure that qualified candidates for elective office have access to broadcast facilities and certain other media platforms and foster transparency about entities sponsoring advertisements.

24. In its comments, GBS agrees with the general approach of applying existing political programming rules to program originating boosters. GBS anticipates that broadcasters will sell advertising time on program originating boosters at rates distinct from those on their primary signal and, thus, believes it would be appropriate to treat a program originating booster as its own facility for the limited purposes of applying the equal opportunities, reasonable access, and lowest unit charge rules. Similarly, GBS urges the Commission to treat each program originating booster as its own facility with regard to political file requirements. Roberts agrees that program originating boosters could be useful for political candidates but seeks streamlined political file requirements because small, independent broadcasters like itself have limited resources.

26. We amend 47 CFR 74.1290 as proposed to make all political programming requirements explicitly applicable to program originating FM booster stations. Traditional booster stations are not required to maintain a public file, but we will require full power broadcasters originating programming on a booster to include information about any political uses of each booster in the online political file of the booster's primary station. LPFM stations do not have an online public file requirement and, thus, an LPFM station operating program originating boosters will need to maintain a physical political file for its booster(s) consistent with existing requirements for political use of the LPFM station.

27. As GBS suggests, each program originating booster and primary station would be considered its own, separate facility for purposes of political file obligations. However, for the sake of simplicity, the Commission adopts a streamlined requirement that will allow broadcasters to include information about their boosters within the political file of their primary stations. The primary FM station's political file would denote whether material was booster-originated, and if so, the booster station over which it was broadcast. We will implement this requirement by amending 47 CFR 73.3526 (online public inspection file of commercial stations) and 47 CFR 73.3527 (online public inspection file of noncommercial educational stations).

28. Because we are treating program originating boosters as separate facilities from the licensee's primary station for purposes of political broadcasting and advertising requirements, candidates who request equal opportunities in response to an advertisement or noncommercial announcement broadcast on a particular program originating booster station will be entitled to use that booster station but not the primary station (if the primary station did not air the material). Similarly, primary stations and program originating boosters will be treated as separate facilities with respect to requests for reasonable access by Federal candidates. As GBS notes, rates charged on a program originating booster may be lower than those charged on the primary station because the booster reaches a smaller zone. Therefore, in determining lowest unit charges, licensees should treat their program originating booster stations and primary stations as separate facilities.

29. Patent Licensing Issues. We will not at this time require vendors of program originating technology and patent owners in program origination technology to take any additional steps pursuant to the Commission's patent policy. Nor will we require their compliance with any other guidelines common to open standards, such as requiring that licenses be available to all parties on fair, reasonable and nondiscriminatory terms. The FNPRM asked whether such a requirement was necessary and an appropriate exercise of Commission authority given that the Order did not endorse a particular technical approach. GBS, the only commenter to address this issue, argues that the Commission should not get involved in patent matters.

30. Based on the record, we decline at this time to impose any patent-related requirements. We base this decision on our determination that program originating boosters work with existing equipment and standards, the Commission has not endorsed GBS' particular product, and others can enter the market if there is sufficient demand. Therefore, we do not believe that it is necessary at this time for us to adopt regulations governing program origination licensing and usage fees. If we receive information that suggests we need to explore this issue further, such as if it becomes necessary for stations to use a particular proprietary system for program origination to work, we will take appropriate action at that time.

31. Other Safeguards. We will not adopt a suggestion by REC that the Commission avoid co-channel interference to LPFM and FM translator stations by revising 47 CFR 74.1204(i). REC asks us to require that the signal of pre-existing co-channel and first-adjacent channel stations exceed by 20 dBu that of a booster anywhere within the existing station's protected contour. GBS opposes REC's suggestion. The Commission does not see a need to revise section 74.1204(i) in the manner proposed by REC because existing co-channel interference standards provide sufficient protection. REC acknowledges that an affected station could pursue an interference claim against the booster under 47 CFR 74.1203 and 73.809 although it views this remedy as burdensome because the affected station must compile information necessary to present a complaint.

32. REC's proposal is similar to interference protection standards that the Commission considered but declined to adopt in 1987, in favor of less complex and burdensome requirements. The record does not support a finding that the landscape has changed so significantly since that time as to establish a need for different standards applicable to FM booster stations. Our decision to limit program origination to three minutes per hour would further minimize any potential interference. We acknowledge that the LPFM service did not yet exist at the time of the 1987 decision and that the number of FM boosters will likely increase with the option to use them for program origination. However, we do not consider that change to negate the effectiveness of the existing requirement that secondary stations must protect full service stations and also pre-existing secondary stations.

III. Procedural Matters

33. Final Regulatory Flexibility Analysis. As required by the Regulatory Flexibility Act of 1980, as amended (RFA), an Initial Regulatory Flexibility Analysis (IRFA) was incorporated in the amendment of § 74.1231(i) of the Commission's Rules on FM Broadcast Booster Stations, Further Notice of Proposed Rulemaking (FNPRM), released in April 2024. The Federal Communications Commission (Commission) sought written public comment on the proposals in the FNPRM, including comment on the IRFA. No comments were filed addressing the IRFA. The Final Regulatory Flexibility Analysis (FRFA) conforms to the RFA. See 5 U.S.C. 604.

34. Need For, and Objectives of, the Second Report and Order. In the Second Report and Order (Second R&O), the Commission establishes service rules that will enable FM and low power FM (LPFM) broadcasters to use FM booster stations to originate program content. This action builds upon an April 2024 Report and Order (Order) and Further Notice of Proposed Rulemaking (FNPRM) stemming from a Petition for Rulemaking by GeoBroadcast Solutions, LLC (GBS). GBS developed technology designed to allow FM broadcast stations to use boosters as a means of airing “geo-targeted” content different from their primary station's signal to specific areas, i.e., “zones,” within that station's service contour. Stations choosing to use this technology might, for example, air advertisements from businesses whose needs or budgets are best focused on small geographic areas, and/or might air hyper-local news and weather reports most relevant to a particular segment of the community. Because FM boosters were traditionally used only as a means to enhance weak signals of a primary station and could not originate programming, GBS asked the Commission to modify the rules to allow program originating boosters.

35. In the Order, after considering responsive comments, the Commission identified significant potential benefits of program originating boosters. The technology could enable radio stations to seek new sources of revenue, provide audiences with more relevant, hyper-local content, and provide advertisers with better opportunities to direct messages to the listeners they most want to reach. Nevertheless, because the record addressed some technical and administrative issues quite broadly, we issued the FNPRM to propose specific requirements and solicit more detailed input. We, thus, provided for immediate grant of authorizations to operate program originating boosters on an experimental basis pursuant to part 5 of the Commission's rules, 47 CFR part 5, but determined that permanent authorizations would need to await establishment of more detailed requirements following an opportunity for public comment.

36. Comments submitted in response to the FNPRM generally support a process that is simple and flexible for booster applicants while including safeguards to ensure that booster operations do not impact emergency communications or signal quality to listeners of the primary station and other co-channel and adjacent channel stations. The Second R&O thus adopts processing, licensing, and service rules to enable the Commission to authorize broadcasters to originate programming on boosters without the need for an experimental authorization. To facilitate the rollout of this service, we establish that FM licensees will apply for boosters on a first come/first served basis. Before commencing or suspending program origination the licensee will file a FM Booster Program Origination Notification using an electronic form that following approval, will be available in the Media Bureau's Licensing and Management System (LMS) database. The notification will enable the Commission and interested parties to be aware of which boosters are being used for this purpose. In response to public safety concerns about potential impact on the Emergency Alert System (EAS) the Commission will require broadcasters whose signals are specified in a state emergency communications plan to notify their State Emergency Communications Committee(s) (SECC) of their use of program originating boosters. We also update our rules to allow the Commission to address concerns about predicted interference from proposed booster stations and adopt a cap on the total number of program originating boosters each primary station may operate. We update our political broadcasting rules to account for political advertising on program originating boosters. Finally, we adopt a commenter-proposed public interest certification for broadcasters operating program originating boosters.

37. Summary of Significant Issues Raised by Public Comments in Response to the IRFA. There were no comments filed that specifically addressed the proposed rules and policies presented in the IRFA. However, Roberts Radio Broadcasting (Roberts), which supports program originating boosters, offered its perspective on several administrative matters as a small, independent broadcaster with limited resources. Specifically, Roberts seeks streamlined political file requirements and opposes separate EAS requirements for program originating boosters, citing concerns regarding the limited resources of small, independent broadcasters. As discussed in greater detail in section F, the Second R&O streamlines political file reporting, but maintains certain EAS notification requirements.

38. Response to Comments by the Chief Counsel for Advocacy of the Small Business Administration. Pursuant to the Small Business Jobs Act of 2010, 5 U.S.C. 604(a)(3), which amended the RFA, the Commission is required to respond to any comments filed by the Chief Counsel for Advocacy of the Small Business Administration (SBA), and to provide a detailed statement of any change made to the proposed rules as a result of those comments. The Chief Counsel did not file any comments in response to the proposed rules in this proceeding.

39. Description and Estimate of the Number of Small Entities to Which the Rules Will Apply. The RFA directs the agencies to provide a description of and, where feasible, an estimate of the number of small entities that may be affected by the rules adopted herein. The RFA, 5 U.S.C. 601(6) generally defines the term “small entity” as having the same meaning as the terms “small business,” “small organization,” and “small government jurisdiction.” In addition, the term “small business” has the same meaning as the term “small business concern” under the Small Business Act, 5 U.S.C. 601(3). A small business concern is one which: (1) is independently owned and operated; (2) is not dominant in its field of operation; and (3) satisfies any additional criteria established by the SBA.

40. Radio Stations. This industry is comprised of “establishments primarily engaged in broadcasting aural programs by radio to the public.” Programming may originate in the broadcaster's own studio, from an affiliated network, or from external sources. The SBA small business size standard for this industry classifies firms having $47 million or less in annual receipts as small. U.S. Census Bureau data for 2017 show that 2,963 firms operated in this industry during that year. Of this number, 1,879 firms operated with revenue of less than $25 million per year. Based on this data and the SBA's small business size standard, we estimate a majority of such entities are small entities.

41. The Commission estimates that as of September 30, 2024, there were 4,400 licensed commercial AM radio stations and 6,618 licensed commercial FM radio stations, for a combined total of 11,018 commercial radio stations. Of this total, 11,017 stations (or 99.99%) had revenues of $47 million or less in 2023, according to Commission staff review of the BIA Kelsey Inc. Media Access Pro Database (BIA) on October 15, 2024, and therefore these licensees qualify as small entities under the SBA definition. In addition, the Commission estimates that as of September 30, 2024, there were 4,377 licensed noncommercial (NCE) FM radio stations, 1,967 low power FM (LPFM) stations, and 8,894 FM translators and boosters. The Commission however does not compile, and otherwise does not have access to financial information for these radio stations that would permit it to determine how many of these stations qualify as small entities under the SBA small business size standard. Nevertheless, given the SBA's large annual receipts threshold for this industry and the nature of radio station licensees, we presume that all of these entities qualify as small entities under the above SBA small business size standard.

42. We note, however, that in assessing whether a business concern qualifies as “small” under the above definition, business (control) affiliations must be included. Our estimate, therefore, likely overstates the number of small entities that might be affected by our action, because the revenue figure on which it is based does not include or aggregate revenues from affiliated companies. In addition, another element of the definition of “small business” requires that an entity not be dominant in its field of operation. We are unable at this time to define or quantify the criteria that would establish whether a specific radio or television broadcast station is dominant in its field of operation. Accordingly, the estimate of small businesses to which the rules may apply does not exclude any radio or television station from the definition of a small business on this basis and is therefore possibly over-inclusive. An additional element of the definition of “small business” is that the entity must be independently owned and operated. Because it is difficult to assess these criteria in the context of media entities, the estimate of small businesses to which the rules may apply does not exclude any radio or television station from the definition of a small business on this basis and similarly may be over-inclusive.

43. Description of Projected Reporting, Recordkeeping, and Other Compliance Requirements for Small Entities. The Second R&O modifies reporting requirements that may impact compliance requirements for small entities, as described below. These changes will likely result in a modified paperwork obligation for small and other entities. The Commission has considered the benefits and costs of allowing program originating booster licensees to submit certain notifications in the LMS database. While there is not specific information on the record to quantify the cost of compliance for small entities or determine whether they will need to hire professionals to comply with its decisions, the Commission has determined that the benefits of allowing small and other broadcasters to operate program originating boosters outweigh any potential costs for small entities. The Commission will seek approval of and submit the corresponding burden estimates to account for this modified reporting requirement.

44. The Second R&O adopts processing, licensing, and service rules permitting construction and operation of program originating boosters. The Commission adds a new section 74.1206 to the rules, requiring that a program originating booster formally notify the Commission through the LMS database of the commencement and suspension of operations. FM Booster Program Origination Notifications must be filed 15 days prior to the start of programming and 30 days after permanently terminating programming.

45. The new rule section 74.1206 also includes a separate notification requirement pertaining to the EAS to ensure that EAS participants are aware of program originating boosters in their EAS chain. This EAS-related notification will be accomplished by requiring broadcasters to alert their SECC that content on their boosters may differ from that on their primary station. The SECC can, thus, take this into account in making EAS monitoring assignments. The Second R&O also requires that stations employing program originating boosters report to the Commission any problems of which they become aware concerning the EAS and interference.

46. The Second R&O further clarifies that the programming originated by an FM booster station must conform to that broadcast by the FM primary station, e.g., a booster re-transmitting a noncommercial educational (NCE) FM station may also only broadcast NCE content, and that booster stations must suspend operations when the primary station is not operating. Information collected in the FM Booster Program Origination Notification will be publicly available in the Commission's LMS database.

47. The Commission further amends § 74.1232(g), limiting full-service FM stations to 25 program originating FM booster stations. This cap represents a change from the current rule, which imposes no numerical limit on FM booster stations. The cap is intended to ensure that spectrum remains available for other purposes despite an increase in the overall number of booster stations anticipated from our decision to authorize program originating boosters, consistent with the Local Community Radio Act of 2010 (LCRA) (Pub. L. 111-371), 124 Stat. 4072 (2011).

48. The Second R&O also addresses issues regarding political broadcasting. To the extent that political advertising may be broadcast over a program originating booster, the Commission requires that such a booster station must follow all of the Commission's political broadcasting rules. These would include rules requiring the maintenance of a political file, provision of equal opportunity and reasonable access to political candidates, and limiting the rates charged to political candidates for air time.

49. The Commission adopts a suggestion from commenters that licensees of program originating boosters periodically self-certify that they are, consistent with the public interest, using the boosters in a manner that is responsive to the needs and issues of their service areas, especially minority communities. Although the Commission found no evidence that program origination would inhibit advances in diversity, equity, inclusion, and accessibility, it views this requirement as one posing a very minimal burden on licensees but serving as an important, regular reminder to licensees of best practices to use program originating boosters as an enhancement of local messaging intended to target rather than to exclude. The Commission amends the online public inspection file rules in 47 CFR 73.3526 and 73.3527 to reference this new public interest self-certification requirement, requiring stations to place their booster-related certification in their online public files.

50. Finally, the Second R&O concludes that certain additional guidelines are unnecessary. The Commission will not adopt specific standards for synchronizing booster and primary signals. The manner in which a license synchronizes its signals would best be determined on an individual basis by the station's engineers based on the design of its particular system. Nor will the Commission specify that vendors of program originating technologies abide by the Commission's patent policy or any other guidelines, which require that licenses be available to all parties on fair, reasonable, and nondiscriminatory terms. There is not a need for such action at present because program originating boosters work with existing equipment and standards, the Commission has not endorsed GBS' particular product, and others can enter the market if there is a sufficient demand.

51. Steps Taken to Minimize the Significant Economic Impact on Small Entities and Significant Alternatives Considered. The RFA, 5 U.S.C. 604(a)(6), requires an agency to provide, “a description of the steps the agency has taken to minimize the significant economic impact on small entities . . . including a statement of the factual, policy, and legal reasons for selecting the alternative adopted in the final rule and why each one of the other significant alternatives to the rule considered by the agency which affect the impact on small entities was rejected.” In the Second R&O, the Commission considered a number of alternatives that may impact small entities when it adopted processing, licensing, and service rules for authorizing program originating boosters. These rules benefit the public by providing small broadcasters with increased options to serve listeners and provide for more targeted and varied advertising and content that many small stations are not able to currently offer.

52. Many alternatives considered in the Second R&O seek to avoid imposing additional burdens on small radio stations where practicable. The Commission considered and responded favorably to commenter suggestions to keep administrative processes associated with program originating FM boosters as simple and flexible as possible. For example, the Commission will accept applications to construct program originating boosters on a first come/first served basis, and not adopt one commenter's suggestion to add separate applications for program origination. The process adopted will give applicants the flexibility to apply as needed rather than having to await a specific filing window and additional application review. In this way, FM broadcasters will be able to design systems that meet their individual circumstances by applying for many or just a few stations at any point in time. In the unlikely event of mutually exclusive booster proposals filed on the same day, the Commission decided to give the applicants an opportunity to adjust their technical proposals to allow for grant of both applications. The Commission will allow for additional flexibility if applicants are unable to adjust their engineering parameters and will grant each application on a time-sharing basis. Such an arrangement should not be difficult given that program origination is limited to three minutes each hour. In considering alternatives to the proposed political file requirements, the Second R&O retains filing obligations, however it allows small broadcasters to include information on program originating boosters in the political file of the main station, thereby streamlining recordkeeping obligations for smaller broadcasters with limited resources.

53. The Commission considered whether to codify technical specifications for synchronization of the program originating booster's signal with that of the FM primary station, and agreed with commenters who emphasized the importance of allowing each licensee to design a system that best meets the engineering specifications appropriate in its particular environment, providing small broadcasters further flexibility. Some commenters suggested adoption of stricter co-channel interference standards for program originating boosters, however we believe the existing standards are sufficient and less burdensome and will retain those standards at this time.

54. In considering related recordkeeping and notification requirements, the Commission endeavored to strike an appropriate balance between the Commission's need for information and the small broadcaster's interest in minimizing regulatory burdens. For example, in establishing a new § 74.1206 to the rules, which prescribes LMS notification of the commencement or suspension of program originating booster service, the Commission accepted a suggestion that licensees provide the notification in the LMS database. The majority of Commission notifications in the media services are delivered through LMS, which is less burdensome than requiring separate mail or electronic mail notification. Further, the rule also simplifies notification and certification requirements for broadcasters, allowing 15 days for notification that programming will begin, instead of 10 days as proposed in comments, and 30 days to file a notification that it will permanently discontinue originating programming. The Commission delegated to the Media Bureau authority to create the new notification form and to coordinate with any other agencies as needed to obtain all form approvals. We believe that unlike other alternatives for compliance, such as a separate full application filing, this notification-based approach will provide adequate notice to the Commission while minimizing the regulatory burden for small broadcast stations. We anticipate that publicly available notifications will allow the Commission and the industry to monitor station use of the new program origination booster technology. Rather than adopting a suggestion that licensees of program originating boosters identify and contact, based on operational area alone, every EAS Participant that monitors their primary stations, we adopt a far less burdensome requirement that they notify their State Emergency Communications Committees (SECC). This will enable EAS Participants to more readily understand the status of the sources they are monitoring by reviewing their State EAS Plan, which SECCs typically make available via website.

55. Report to Congress. The Commission will send a copy of the Second R&O, including the FRFA, in a report to Congress pursuant to the Congressional Review Act, 5 U.S.C. 801(a)(1)(A). In addition, the Commission will send a copy of the Second R&O, including the FRFA, to the Chief Counsel for Advocacy of the SBA. A copy of the Second R&O and FRFA (or summaries thereof) will also be published in the Federal Register. Id. 604(b).

56. Paperwork Reduction Act Analysis. This Second R&O may contain new or modified information collection requirements subject to the Paperwork Reduction Act of 1995 (PRA). Public Law 104-13, 109 Stat. 163 (1995) (codified at 44 U.S.C. 3501-3520). All such new or modified information collections will be submitted to the Office of Management and Budget (OMB) for review under section 3507(d) of the PRA, 44 U.S.C. 3507(d). OMB, the general public, and other Federal agencies will be invited to comment on any new or modified information collection requirements contained in this proceeding. In addition, we note that pursuant to the Small Business Paperwork Relief Act of 2002 (Pub. L. 107-198), 116 Stat. 729 (2002) (codified at 44 U.S.C. 3506(c)(4)), the Commission previously sought specific comment on how it might further reduce the information collection burden for small business concerns with fewer than 25 employees. We have assessed the effects of the required collection of information on these small entities.

57. Congressional Review Act. The Commission has determined, and the Administrator of the Office of Information and Regulatory Affairs, Office of Management and Budget, concurs, that these rules are non-major under the Congressional Review Act, 5 U.S.C. 804(2). The Commission will send a copy of this Second R&O to Congress and the Government Accountability Office pursuant to the Congressional Review Act, 5 U.S.C. 801(a)(1)(A).

IV. Ordering Clauses

58. Accordingly, it is ordered that pursuant to the authority contained in sections 1, 2, 4(i), 7, 301, 302, 303, 307, 308, 309, 316, 319, and 324 of the Communications Act of 1934, 47 U.S.C. 151, 152, 154(i), 157, 301, 302, 303, 307, 308, 309, 316, 319, and 324, this Second Report and Order and Order on Reconsideration is adopted.

59. It is further ordered that the Second Report and Order and the amendments to the Commission's rules set forth in Appendix B shall be effective 30 days after publication of a summary in the Federal Register, except that the amendments to §§ 73.3526(a) and (e), 73.3527(a) and (e), 74.1204(f), and 74.1206, which may contain new or modified information collection requirements and creation of a new form, will not become effective until OMB completes review of any information collection requirements that the Media Bureau determines is required under the Paperwork Reduction Act. The Commission directs the Media Bureau to announce the effective date of the rule changes to §§ 73.3526(a) and (e), 73.3527(a) and (e), 74.1204(f), and 74.1206, by subsequent Public Notice.

60. It is further ordered that the Commission's Office of the Secretary shall send a copy of this Second Report and Order and Order on Reconsideration, including the Final Regulatory Flexibility Analysis, to the Chief Counsel for Advocacy of the Small Business Administration.

61. It is further ordered that Office of the Managing Director, Performance Program Management, shall send a copy of this Second Report and Order and Order on Reconsideration in a report to Congress and the Government Accountability Office pursuant to the Congressional Review Act, 5 U.S.C. 801(a)(1)(A).

62. It is further ordered that the Petition for Reconsideration filed by REC Networks of the Report and Order in MB Docket No. 20-401 is denied.

63. It is further ordered that the Petition for Reconsideration filed by Press Communications, LLC of the Report and Order in MB Docket No. 20-401 is dismissed.

List of Subjects

47 CFR Part 11

Emergency Alert System, Radio.

47 CFR Part 73

Communications equipment, Radio, Reporting and recordkeeping requirements.

47 CFR Part 74

Communications equipment, Radio, Reporting and recordkeeping requirements.

Federal Communications Commission.
Marlene Dortch,
Secretary.

Final Rules

For the reasons discussed in this preamble, the Federal Communications Commission amends 47 CFR parts 11, 73, and 74 as follows:

PART 11—EMERGENCY ALERT SYSTEM (EAS)

1. The authority citation for part 11 continues to read as follows:

Authority: 47 U.S.C. 151, 154(i) and (o), 303(r), 544(g), 606, 1201, 1206.

2. Amend § 11.21 by adding a sentence to the end of paragraph (a)(4) to read as follows:

§ 11.21 State and Local Area plans and FCC Mapbook.

* * * * *

(a) * * *

(4) * * * State EAS Plans must indicate whether any of the EAS monitoring sources in the monitoring assignment matrix are primary stations adopting program originating boosters and, if so, whether the boosters will simulcast the primary station or remain off-air during periods when they are not originating programming;

* * * * *

PART 73—RADIO BROADCAST SERVICES

3. The authority citation for part 73 continues to read as follows:

Authority: 47 U.S.C. 154, 155, 301, 303, 307, 309, 310, 334, 336, 339.

4. Amend § 73.860 by adding a sentence to end of paragraph (b)(5) to read as follows:

§ 73.860 Cross-ownership.

* * * * *

(b) * * *

(5) * * * Any such booster stations must comply with the rules concerning the Emergency Alert System set out in part 11 of this chapter.

* * * * *

5. Delayed indefinitely, amend § 73.3526 by adding paragraphs (a)(3) and (e)(20) to read as follows:

§ 73.3526 Online public inspection file of commercial stations.

(a) * * *

(3) Every permittee or licensee of a program originating FM booster station, as defined in § 74.1201(f)(2) of this chapter, shall maintain in the political file of its FM primary station the records required in § 73.1943 for each such program originating FM booster station.

* * * * *

(e) * * *

(20) Certification by licensees of program originating FM boosters. Every licensee of an FM primary station using a program originating FM booster station, as defined in § 74.1201(f)(2) of this chapter, shall concurrently with its quarterly issues programs lists for the primary station, place a booster public interest certification in the online public file of its FM primary station. The certification must contain the call sign(s) of the relevant booster(s) and certify that in originating programming over the booster(s) the licensee has considered the characteristics and needs of the coverage area of the booster station and has not used the booster to exclude or diminish service to other populations within that area or any other area served by the booster's primary station.

6. Delayed indefinitely, amend § 73.3527 by adding paragraphs (a)(3) and (e)(16) to read as follows:

§ 73.3527 Online public inspection file of noncommercial educational stations.

(a) * * *

(3) Every permittee or licensee of a program originating FM booster station, as defined in § 74.1201(f)(2) of this chapter, in the noncommercial educational broadcast service shall maintain in the political file of its FM primary station the records required in § 73.1943 for each such program originating FM booster station.

* * * * *

(e) * * *

(16) Certification by licensees of program originating FM boosters. Every licensee of an FM primary station using a program originating FM booster station, as defined in § 74.1201(f)(2) of this chapter, shall concurrently with its quarterly issues programs lists for the primary station, place a booster public interest certification in the online public file of its FM primary station. The certification must contain the call sign(s) of the relevant booster(s) and certify that in originating programming over the booster(s) the licensee has considered the characteristics and needs of the coverage area of the booster station and has not used the booster to exclude or diminish service to other populations within that area or any other area served by the booster's primary station.

* * * * *

PART 74—EXPERIMENTAL RADIO, AUXILIARY, SPECIAL BROADCAST AND OTHER PROGRAM DISTRIBUTIONAL SERVICES

7. The authority citation for part 74 continues to read as follows:

Authority: 47 U.S.C. 154, 302a, 303, 307, 309, 310, 325, 336, and 554.

8. Amend § 74.1204 by removing the note to paragraph (a)(4), adding paragraph (a)(5), and revising paragraph (i).

The addition and revision read as follows:

§ 74.1204 Protection of FM broadcast, FM Translator and LP100 stations.

(a) * * *

(5) For the purposes of determining overlap pursuant to this paragraph, LP100 stations, LPFM applications, and LPFM permits that have not yet been licensed must be considered as operating with the maximum permitted facilities. All LPFM TIS stations must be protected on the basis of a nondirectional antenna.

* * * * *

(i) FM broadcast booster stations shall be subject to the requirement that the signal of any first adjacent channel station must exceed the signal of the booster station by 6 dB at all points within the protected contour of any first adjacent channel station, except that in the case of FM stations on adjacent channels at spacings that do not meet the minimum distance separations specified in § 73.207 of this chapter, the signal of any first adjacent channel station must exceed the signal of the booster by 6 dB at any point within the predicted interference free contour of the adjacent channel station.

* * * * *

9. Delayed indefinitely, further amend § 74.1204 by:

a. Redesignating paragraph (f) introductory text as paragraph (f)(1) and paragraphs (f)(1) through (5) as paragraphs (f)(3)(i) through (v);

b. Revising newly redesignated paragraph (f)(1);

c. Adding new paragraphs (f)(2) and (f)(3) introductory text; and

d. Revising newly redesignated paragraph (f)(3)(iv)

The revisions and additions read as follows:

§ 74.1204 Protection of FM broadcast, FM Translator and LP100 stations.

* * * * *

(f)(1) An application for an FM translator station will not be granted even though the proposed operation would not involve overlap of field strength contours with any other station, as set forth in paragraph (a) of this section, if grant of the authorization will result in interference to the reception of a regularly used, off-the-air signal of any authorized co-channel, first, second or third adjacent channel broadcast station, including previously authorized secondary service stations within the 45 dBµ field strength contour of the desired station.

(2) An application for an FM broadcast booster station will not be granted even though the proposed operation would not involve overlap of field strength contours with any other station, as set forth in paragraph (i) of this section, if grant of the authorization will result in interference to the reception of a regularly used, off-the-air signal of any authorized co-channel, first, second or third adjacent channel broadcast station, other than the booster's primary station, but including previously authorized secondary service stations within the 45 dBµ field strength contour of the desired station.

(3) Interference, with regard to either an FM translator station or an FM broadcast booster station application, is demonstrated by:

* * * * *

(iv) A statement that the complaining station licensee has used commercially reasonable efforts to inform the relevant translator or booster licensee of the claimed interference and attempted private resolution; and

* * * * *

10. Delayed indefinitely, add § 74.1206 to read as follows:

§ 74.1206 Program originating FM booster station notifications.

(a) A program originating FM booster station must electronically file an FM Booster Program Origination Notification with the Commission in LMS using the form provided for this purpose, before commencing or after terminating the broadcast of booster-originated content subject to the provisions of § 74.1201(f)(2). Such a notification must be filed within 15 days before commencing origination, or within 30 days after terminating origination.

(b) A primary FM station that is designated in a state emergency communications plan as an Emergency Alert Service Local Primary (LP), State Primary (SP), State Relay (SR), or otherwise monitored as an over-the-air source of EAS messages must notify the proper State Emergency Communications Committee(s) of its intent to transmit unique local programing on one or more program originating FM boosters at least 30 days prior to employing a program originating booster, or implementing changes to booster status. The notification should disclose whether the booster(s) will simulcast the primary station or remain off-air during periods when not originating programming and advise continued monitoring of the primary station and not of a booster.

(c) Stations employing program originating boosters must report to the Commission's Operations Center, at FCCOPS@fcc.gov, any problems of which they become aware concerning EAS-related interference.

11. Amend § 74.1231 by removing the note following paragraph (b)(2)(ii) and adding paragraphs (k) and (l).

The additions read as follows:

§ 74.1231 Purpose and permissible service.

* * * * *

(k) In the case of a superpowered FM broadcast station, authorized with facilities in excess of those specified by § 73.211 of this chapter, an FM booster station will only be authorized within the protected contour of the class of station being rebroadcast as predicted based on the maximum facilities set forth in § 73.211 for the applicable class of FM broadcast station being rebroadcast.

(l) An FM broadcast booster station, as defined in § 74.1201(f)(1) or (2), must suspend operations at any time its primary station is not operating. If a full-service FM broadcast station suspends operations, in addition to giving the notification specified in § 73.1740(a)(4) of this chapter, each FM broadcast booster station and program originating FM booster station must also file a notification under § 73.1740(a)(4) that it has suspended operations.

12. Amend § 74.1232 by revising paragraph (g), redesignating paragraph (h) as paragraph (i), and adding a new paragraph (h).

The revision and addition read as follows:

§ 74.1232 Eligibility and licensing requirements.

* * * * *

(g) No numerical limit is placed upon the number of FM booster stations which may be licensed to a single licensee. No more than twenty-five (25) program originating FM booster stations may be licensed to a single full-service FM broadcast station. A separate application is required for each FM booster station. FM broadcast booster stations are not counted as FM broadcast stations for the purposes of § 73.5555 of this chapter concerning multiple ownership.

(h) A program originating FM booster station, when originating programming pursuant to the limits set forth in § 74.1201(f)(2), may not broadcast programming that is not permitted by its primary station's authorization (e.g., a program originating FM booster station licensed to a noncommercial educational primary station may only originate programming consistent with § 73.503 of this chapter).

* * * * *

13. Add § 74.1290 to read as follows:

§ 74.1290 Political programming rules applicable to program originating FM booster stations.

To the extent a program originating FM booster station originates programming different than that broadcast by its FM primary station, pursuant to the limits set forth in § 74.1201(f)(2), it shall comply with the requirements in §§ 73.1212, 73.1940, 73.1941, 73.1942, 73.1943, and 73.1944 of this chapter.

[FR Doc. 2024-29290 Filed 12-12-24; 8:45 am]

BILLING CODE 6712-01-P